Title 3—

The President

Proclamation 9407 of March 18, 2016

National Poison Prevention Week, 2016

By the President of the United States of America

A Proclamation

As the leading cause of accidental injury death in the United States, poisonings can harm people of all ages and from all walks of life. More than 90 percent of poisonings occur inside the home, and most are treatable and preventable. During National Poison Prevention Week, we work to ensure the safety of our homes and communities by learning of the dangers of poison and striving to prevent poisonings.

The most common sources of poisoning in young children are items typically found at home, including cleaning, cosmetic, and personal care products, as well as over-the-counter and prescription medications. Although children are more likely to be poisoned, adults—who are most commonly poisoned by cleaning products, or by the improper use of sedatives, antidepressants, pain relievers, or prescription drugs—are far more likely to die from poison exposure.

With diligence and caution, these tragedies can be avoided. Make sure household products are kept in their original bottles and away from children, and never mix such products together. Some poisonous materials and vapors are harder to identify, including carbon monoxide—a colorless and odorless, yet very dangerous, gas. Everyone should have carbon monoxide detectors in their home, use them properly, and get them tested regularly. Medications should always be kept out of the reach of children, and whether prescription or over-the-counter, all drugs should be taken safely and in accordance with guidance on the label or as prescribed and instructed by healthcare professionals. To learn more about keeping you and your family safe from poison, visit www.PoisonHelp.HRSA.gov, and for more information on how to safely dispose of drugs, including by participating in the National Prescription Drug Take-Back Day on April 30, visit www.DEAdiversion.USDOJ.gov.

We can all play a role in preventing poisoning tragedies from occurring. Every individual can take steps on their own to make their homes safer and to learn of appropriate actions to take in the event of a poisoning incident. If you believe someone has been poisoned, immediately call the Poison Help line at 1-800-222-1222. By coming together to secure potentially-toxic materials in our homes and communities and by educating our friends and family on methods of prevention, we can help ensure no person is deprived of a full and healthy life due to poisoning.

To encourage Americans to learn more about the dangers of accidental poisonings and to take appropriate preventative measures, the Congress, by joint resolution approved September 26, 1961, as amended (75 Stat. 681) has authorized and requested the President to issue a proclamation designating the third week of March each year as “National Poison Prevention Week.”

NOW, THEREFORE, I, BARACK OBAMA, President of the United States of America, do hereby proclaim March 20 through March 26, 2016, as National Poison Prevention Week. I call upon all Americans to observe this week by taking actions to protect their families from hazardous household materials and misuse of prescription medicines.

IN WITNESS WHEREOF, I have hereunto set my hand this eighteenth day of March, in the year of our Lord two thousand sixteen, and of the Independence of the United States of America the two hundred and fortieth.

[FR Doc. 2016-06793

Filed 3-22-16; 11:15 am]

Billing code 3295-F6-P